DEPARTMENT OF ENERGY

Federal Energy Regulatory Commission

[Docket Nos. CP09-6-001; CP09-7-001; Docket No. CP13-507-000]

LNG Development Company, LLC; Oregon Pipeline Company, LLC; Northwest Pipeline LLC; Notice of Revised Schedule for Environmental Review of the Oregon LNG Terminal and Pipeline Project and Washington Expansion Project

This notice identifies the Federal Energy Regulatory Commission staff's revised schedule for the completion of the environmental impact statement (EIS) for LNG Development Company, LLC's and Oregon Pipeline Company, LLC's Oregon LNG Terminal and Pipeline Project and Northwest Pipeline LLC's Washington Expansion Project. The first notice of schedule, issued on April 17, 2015, identified February 12, 2016 as the final EIS issuance date. However, additional information is required to respond to comments on the draft EIS. As a result, staff has requested supplemental information from the applicants and revised the schedule for issuance of the final EIS.

Schedule for Environmental Review

Issuance of Notice of Availability of the final EIS | June 3, 2016.
90-day Federal Authorization Decision Deadline | September 1, 2016.

If a schedule change becomes necessary, an additional notice will be provided so that the relevant agencies are kept informed of the projects' progress.

Additional Information

In order to receive notification of the issuance of the EIS and to keep track of all formal issuances and submittals in specific dockets, the Commission offers a free service called eSubscription (http://www.ferc.gov/docs-filing/esubscription.asp). Additional information about the projects may be accessed through the FERC's Web site at www.ferc.gov Click on the eLibrary link, click on “General Search” and enter the docket number(s), excluding the last three digits in the Docket Number field (i.e., CP09-6, CP09-7, or CP13-507).

Dated: February 1, 2016.
Nathaniel J. Davis, Sr.,
Deputy Secretary.

[FR Doc. 2016-02254 Filed 2-4-16; 8:45 am]

BILLING CODE 6717-01-P